NUCLEAR REGULATORY COMMISSION

Application for a License to Export Highly-Enriched Uranium

Pursuant to 10 CFR 110.70(b)(2) “Public notice of receipt of an application,” please take notice that the Nuclear Regulatory Commission has received the following application for an export license. Copies of the application are available electronically through ADAMS and can be accessed through the Public Electronic Reading Room (PERR) link <http://www.nrc.gov/NRC/ADAMS/index.html> at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington D.C. 20555; the Secretary, U.S. Nuclear Regulatory Commission, Washington, D.C. 20555; and the Executive Secretary, U.S. Department of State, Washington, D.C. 20520.

In its review of the application for a license to export special nuclear material noticed herein, the Commission does not evaluate the health, safety or environmental effects in the recipient nation of the material to be exported. The information concerning this application follows.

NRC Export License Application
Name of applicant Date of application Date received Application number | Description of Material: Material type | Description of Material: Total qty. | Description of Material: End use | Country of destination
Transnuclear, Inc. | Highly-Enriched Uranium (93.30%) | 10.05 kg Uranium/9.377 kg Uranium-235 | Fabrication of target material for the production of medical isotopes at the Chalk River Laboratories | Canada.
October 23, 2000 |  |  |  |
October 24, 2000 |  |  |  |
XSNM03171 |  |  |  |

For the Nuclear Regulatory Commission.
Dated this 8th day of November 2000 at Rockville, Maryland.
Ronald D. Hauber,
Deputy Director, Office of International Programs.

[FR Doc. 00-29380 Filed 11-15-00; 8:45 am]

BILLING CODE 7590-01-P